DEPARTMENT OF THE INTERIOR

Fish and Wildlife Service

[FWS-R4-ES-2018-N057; FXES11130900000C2-189-FF09E32000]

Endangered and Threatened Wildlife and Plants; 5-Year Status Reviews for 42 Southeastern Species

AGENCY: Fish and Wildlife Service, Interior.

ACTION: Notice of initiation of reviews; request for information.

SUMMARY: We, the U.S. Fish and Wildlife Service (Service), are initiating 5-year status reviews of 42 species under the Endangered Species Act of 1973, as amended. A 5-year review is an assessment of the best scientific and commercial data available at the time of the review. We are requesting submission of information that has become available since the last reviews of these species.

DATES: To allow us adequate time to conduct these reviews, we must receive your comments or information on or before October 5, 2018. However, we will continue to accept new information about any listed species at any time.

ADDRESSES: For instructions on how to submit information and review information that we receive on these species, see Request for New Information under SUPPLEMENTARY INFORMATION.

FOR FURTHER INFORMATION CONTACT: For species-specific information, see Request for New Information under SUPPLEMENTARY INFORMATION.

SUPPLEMENTARY INFORMATION:

Why do we conduct 5-year reviews?

Under the Endangered Species Act of 1973, as amended (ESA; 16 U.S.C. 1531 et seq.), we maintain lists of endangered and threatened wildlife and plant species (referred to as the Lists) in title 50 of the Code of Federal Regulations (CFR) at 50 CFR 17.11 (for wildlife) and 17.12 (for plants). Section 4(c)(2)(A) of the ESA requires us to review each listed species' status at least once every 5 years. Our regulations at 50 CFR 424.21 require that we publish a notice in the Federal Register announcing those species under active review. For additional information about 5-year reviews, go to http://www.fws.gov/endangered/what-we-do/recovery-overview.html.

Which species are under review?

This notice announces our active 5-year reviews of the species in the following table.

Common name/scientific name | Contact person, email, phone | Status (endangered or threatened) | States where the species is known to occur | Final listing rule (Federal Register citation and publication date) | Contact's mailing address
ANIMALS
Mammals
Bat, Florida bonneted (Eumops floridanus) | Roxanna Hinzman, floridabonnetedbat_5-yearreview@fws.gov, 772-468-4341 | Endangered | Florida | 78 FR 61003; 10/2/2013 | USFWS, 1339 20th St., Vero Beach, FL 32960.
Mouse, St. Andrew beach (Peromyscus polionotus peninsularis) | Kristi Yanchis, panamacity@fws.gov, 850-769-0552 | Endangered | Florida | 63 FR 70053; 12/18/1998 | USFWS, 1601 Balboa Ave., Panama City, FL 32405.
Rabbit, Lower Keys (Sylvilagus palustris hefneri) | Roxanna Hinzman, lowerkeysmarshrabbit_5-yearreview@fws.gov, 772-469-4342 | Endangered | Florida | 55 FR 25588; 6/21/1990 | USFWS, 1339 20th St., Vero Beach, FL 32960.
Rice rat, (=silver rice rat) (Oryzomys palustris natator) | Roxanna Hinzman, silverricerat_5-yearreview@fws.gov, 772-469-4343 | Endangered | Florida | 56 FR 19809; 4/30/1991 | USFWS, 1339 20th St., Vero Beach, FL 32960.
Birds
Woodpecker, red-cockaded (Picoides borealis) | Will McDearman, mississippi_field_office@fws.gov, 601-321-1124 | Endangered | Alabama, Arkansas, Florida, Georgia, Louisiana, Mississippi, Missouri, North Carolina, Oklahoma, South Carolina, Texas, Virginia | 35 FR 16047: 10/13/1970 | USFWS, 6578 Dogwood View Pkwy., Jackson, MS 39213.
Reptiles
Crocodile, American (Crocodylus acutus) | Roxanna Hinzman, americancrocodile_5-yearreview@fws.gov., 772-469-4355 | Threatened | Florida | 71 FR 13027; 3/20/2007 | USFWS, 1339 20th St., Vero Beach, FL 32960
Lizard, St. Croix ground (Ameiva polops) | Jan Zegarra, caribbean_es@fws.gov., 787-851-7297 | Endangered | U.S. Virgin Islands | 42 FR 28543; 6/3/1977 | USFWS, Road 301, Km 5.1, P.O. Box 491, Boquerón, PR 00622
Fishes
Darter, bayou (Etheostoma rubrum) | Daniel Drennen, mississippi_field_office@fws.gov., 601-321-1127 | Threatened | Mississippi | 40 FR 44149; 9/25/1975 | USFWS, 6578 Dogwood View Pkwy., Jackson, MS 39213
Darter, Okaloosa (Etheostoma okaloosae) | Bill Tate, panamacity@fws.gov., 850-769-0552 | Threatened | Florida | 76 FR 18087; 4/1/2011 | USFWS, 1601 Balboa Ave., Panama City, FL 32405
Darter, Relict (Etheostoma chienense) | Mike Floyd, kentuckyes@fws.gov., 502-695-0468 | Endangered | Kentucky | 58 FR 68480; 12/27/1993 | USFWS, 330 W. Broadway, Ste 265, Frankfort, KY 40601
Logperch, Conasauga (Percina jenkinsi) | Robin Goodloe, georgiaes@fws.gov., 706-613-9493 | Endangered | Georgia/Tennessee | 56 FR 31597; 8/5/1985 | USFWS, 355 East Hancock Ave Room 320, Athens, GA 30601
Clams
Bankclimber, purple (Elliptoideus sloatianus) | Maureen Walsh, panamacity@fws.gov., 850-769-0552 | Threatened | Florida | 63 FR 12664; 3/16/1998 | USFWS, 1601 Balboa Ave., Panama City, FL 32405
Moccasinshell, Gulf (Medionidus penicillatus) | Maureen Walsh, panamacity@fws.gov., 850-769-0552 | Endangered | Florida | 63 FR 12664; 3/16/1998 | USFWS, 1601 Balboa Ave., Panama City, FL 32405
Moccasinshell, Ochlockonee (Medionidus simpsonianus) | Maureen Walsh., panamacity@fws.gov., 850-769-0552 | Endangered | Florida | 63 FR 12664; 3/16/1998 | USFWS, 1601 Balboa Ave., Panama City, FL 32405
Pearlymussel, littlewing (Pegias fabula) | Leroy Koch, kentuckyes@fws.gov., 502-695-0468 | Endangered | Alabama, Kentucky, North Carolina, Tennessee, Virginia | 53 FR 45861; 11/14/1988 | USFWS, 330 West Broadway, Suite 265, Frankfort, KY 40601
Pigtoe, oval (Pleurobema pyriforme) | Maureen Walsh, panamacity@fws.gov., 850-769-0552 | Threatened | Florida | 63 FR 12664; 3/16/1998 | USFWS, 1601 Balboa Ave., Panama City, FL 32405
Pocketbook, shinyrayed (Lampsilis subangulata) | Maureen Walsh, panamacity@fws.gov., 850-769-0552 | Endangered | Florida | 63 FR 12664; 3/16/1998 | USFWS, 1601 Balboa Ave., Panama City, FL 32405
Slabshell, Chipola (Elliptio chipolaensis) | Maureen Walsh, panamacity@fws.gov., 850-769-0552 | Threatened | Florida | 63 FR 12664; 3/16/1998 | USFWS., 1601 Balboa Ave., Panama City, FL 32405
Spinymussel, Altamaha (Elliptio spinosa) | Anthony Sowers, georgiaes@fws.gov., 706-613-9493 | Endangered | Georgia | 76 FR 62928; 10/11/2011 | USFWS, 355 East Hancock Ave Room 320, Athens, GA 30601
Threeridge, fat (Amblema neislerii) | Maureen Walsh, panamacity@fws.gov., 850-769-0552 | Endangered | Florida/Georgia | 63 FR 12664; 3/16/1998 | USFWS, 1601 Balboa Ave, Panama City, FL 32405
Snails
Snail, Stock Island tree (Orthalicus reses) | Roxanna Hinzman, stockislandtreesnail_5-yearreview@fws.gov., 772-469-4347 | Threatened | Florida | 43 FR 28932; 7/3/1978 | USFWS, 1339 20th St., Vero Beach, FL 32960
Insects
Swallowtail, Schaus (Heraclides aristodemus ponceanus) | Roxanna Hinzman, schausswallowtailbutterfly_5-yearreview@fws.gov., 772-469-4345 | Endangered | Florida | 49 FR 34501; 8/31/1984 | USFWS, 1339 20th St., Vero Beach, FL 32960
Crustaceans
Crayfish, Benton County Cave (Cambarus aculabrum) | Tommy Inebnit, arkansas-es_recovery@fws.gov., 501-513-4483 | Endangered | Florida | 58 FR 25742; 4/27/1993 | USFWS, 110 South Amity Rd., Suite 300, Conway, AR 72032
PLANTS
Flowering Plants
Buxus vahlii (Vahl's boxwood) | Omar Monsegur, caribbean_es@fws.gov., 787-851-7297 | Endangered | Puerto Rico | 50 FR 32572; 8/13/1985 | USFWS, Road 301, Km 5.1, P.O. Box 491, Boquerón, PR 00622
Calyptranthes thomasiana (Thomas lidflower) | Jaime Yrigoyen, caribbean_es@fws.gov., 787-851-7297 | Endangered | Puerto Rico; U.S. Virgin Islands | 59 FR 8138; 2/18/1994 | USFWS, Road 301, Km 5.1, P.O. Box 491, Boquerón, PR 00622
Cladonia perforata (Florida perforate cladonia) | Roxanna Hinzman, floridaperforatecladonia_5-yearreview@fws.gov., 772-469-4349 | Endangered | Florida | 58 FR 25746; 4/27/1993 | USFWS, 1339 20th St., Vero Beach, FL 32960
Clitoria fragrans (Pigeon wings) | Roxanna Hinzman, pigeonwings_5-yearreview@fws.gov., 772-469-4353 | Threatened | Florida | 58 FR 25746; 4/27/1993 | USFWS, 1339 20th St., Vero Beach, FL 32960
Crotalaria avonensis (Avon Park harebells) | Roxanna Hinzman, avonparkharebells_5-yearreview@fws.gov., 772-469-4350 | Endangered | Florida | 58 FR 25746; 4/27/1993 | USFWS, 1339 20th St., Vero Beach, FL 32960
Daphnopsis hellerana (no common name) | Jennifer Valentin, caribbean_es@fws.gov., 787-851-7297 | Endangered | Puerto Rico | 53 FR 23740; 6/23/1988 | USFWS, Road 301, Km 5.1, P.O. Box 491, Boquerón, PR 00622
Dicerandra immaculata (Lakela's mint) | Roxanna Hinzman, lakelasmint_5-yearreview@fws.gov., 772-469-4350 | Endangered | Florida | 50 FR 20212; 5/15/1985 | USFWS., 1339 20th St., Vero Beach, FL 32960
Gesneria pauciflora (no common name) | Omar Monsegur, caribbean_es@fws.gov., 787-851-7297 | Threatened | Puerto Rico | 60 FR 12483; 3/7/1995 | USFWS, Road 301, Km 5.1, P.O. Box 491, Boquerón, PR 00622
Goetzea elegans (Beautiful goetzea) | Martiza Vargas, caribbean_es@fws.gov., 787-851-7297 | Endangered | Puerto Rico | 50 FR 15564; 4/19/1985 | USFWS, Road 301, Km 5.1, P.O. Box 491, Boquerón, PR 00622
Helianthus schweinitzii (Schweinitz's sunflower) | Rebekkah Reid, fw4esasheville@fws.gov., 828-258-3939 | Endangered | North Carolina; South Carolina | 56 FR 21087; 5/7/1991 | USFWS, 160 Zillicoa St., Asheville, NC 28801
Hudsonia montana (Mountain golden heather) | Rebekkah Reid, fw4esasheville@fws.gov., 828-258-3939 | Threatened | North Carolina | 45 FR 69360; 10/20/1980 | USFWS, 160 Zillicoa St., Asheville, NC 28801
Ilex cookii (Cook's holly) | Angel Colon, caribbean_es@fws.gov., 787-851-7297 | Endangered | Puerto Rico | 52 FR 22936; 6/16/1987 | USFWS, Road 301, Km 5.1, P.O. Box 491, Boquerón, PR 00622
Jacquemontia reclinata (Beach jacquemontia) | Roxanna Hinzman, beach_jacquemontia_5-yearreview@fws.gov., 772-469-4348 | Endangered | Florida | 58 FR 62046; 11/24/1993 | USFWS, 1339 20th St., Vero Beach, FL 32960
Juglans jamaicensis (West Indian walnut (nogal)) | Angel Colon, caribbean_es@fws.gov., 787-851-7297 | Endangered | Puerto Rico | 62 FR 1691; 1/13/1997 | USFWS, Road 301, Km 5.1, P.O. Box 491, Boquerón, PR 00622
Paronychia chartacea (Papery whitlow-wort) | Roxanna Hinzman, paperywhitlow-wort_5-yearreview@fws.gov., 772-469-4352 | Threatened | Florida | 52 FR 2227; 1/21/1987 | USFWS, 1339 20th St., Vero Beach, FL 32960
Rhododendron chapmanii (Chapman's rhododendron) | Vivian Negron-Ortiz, panamacity@fws.gov., 850-769-0552 | Endangered | Florida | 44 FR 24248; 4/24/1979 | USFWS, 1601 Balboa Ave., Panama City, FL 32405
Sisyrinchium dichotomum (White irisette) | Rebekkah Reid, fw4esasheville@fws.gov., 828-258-3939 | Endangered | North Carolina; South Carolina | 56 FR 48752; 9/26/1991 | USFWS., 160 Zillicoa St., Asheville, NC 28801
Solidago spithamaea, (Blue Ridge goldenrod) | Rebekkah Reid, fw4esasheville@fws.gov., 828-258-3939 | Threatened | North Carolina, Tennessee | 50 FR 12306; 3/28/1985 | USFWS, 160 Zillicoa St., Asheville, NC 28801
Conifers
Torreya taxifolia (Florida torreya) | Vivian Negron-Ortiz, panamacity@fws.gov., 850-769-0552 | Endangered | Florida, Georgia | 49 FR 2783; 1/23/1984 | USFWS, 1601 Balboa Ave., Panama City, FL 32405

What information do we consider in our review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see the five factors under How Do We Determine Whether A Species Is Endangered or Threatened?); and

E. Other new information, data, or corrections, including but not limited to taxonomic or nomenclatural changes, identification of erroneous information contained in the List, and improved analytical methods.

We request any new information concerning the status of any of these 42 species. Information submitted should be supported by documentation such as maps, bibliographic references, methods used to gather and analyze the data, and/or copies of any pertinent publications, reports, or letters by knowledgeable sources.

We expect we could conduct a species status assessment (SSA) for some of these species under review. An SSA is a biological risk assessment to aid decision makers who must use the best available scientific information to make policy decisions under the ESA. The SSA provides decisionmakers with a scientifically rigorous characterization of a species' status, and of the likelihood that the species will sustain populations, along with key uncertainties in that characterization.

It presents a compilation of the best available information on a species, as well as its ecological needs, based on environmental factors. An SSA also describes the current condition of the species' habitat and demographics, and probable explanations for past and ongoing changes in abundance and distribution within the species' range. Finally, it forecasts the species' response to probable future scenarios of environmental conditions and conservation efforts. Overall, an SSA uses the conservation biology principles of resiliency, redundancy, and representation (collectively known as the “3 Rs”) to evaluate the current and future condition of the species. As a result, the SSA characterizes a species' ability to sustain populations in the wild over time based on the best scientific understanding of current and future abundance and distribution within the species' ecological settings.

Definitions

A. Species means any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the ESA requires that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the person associated with the species you are interested in under the table in SUPPLEMENTARY INFORMATION:

A. To get more information on a species;

B. To submit information on a species; or

C. To review information we receive, which will be available for public inspection by appointment, during normal business hours, at the listed addresses.

Public Availability of Comments

Comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Availability of Status Reviews

All completed status reviews under the ESA are available via the Service website, at https://www.fws.gov/endangered/species/us-species.html.

Authority

We publish this document under the authority of the Endangered Species Act (16 U.S.C. 1531 et seq.).

Dated: May 1, 2018.
Mike Oetker,
Acting Regional Director, Southeast Region.

[FR Doc. 2018-16734 Filed 8-3-18; 8:45 am]

BILLING CODE 4333-15-P